ENVIRONMENTAL PROTECTION AGENCY

[FRL-8493-8]

Science Advisory Board Staff Office; Notification of a Public Advisory Committee Meeting (Teleconference) of the EPA Clean Air Scientific Advisory Committee (CASAC); Particulate Matter Review Panel

AGENCY: Environmental Protection Agency (EPA).

ACTION: Notice.

SUMMARY: The Environmental Protection Agency (EPA or Agency) Science Advisory Board (SAB) Staff Office announces a public teleconference of the Clean Air Scientific Advisory Committee (CASAC) Particulate Matter (PM) Review Panel (CASAC Panel) to conduct a consultation on EPA's Draft Integrated Review Plan for the National Ambient Air Quality Standards for Particulate Matter (Draft Integrated Plan for Review of the PM NAAQS, October 16, 2007).

DATES: The teleconference meeting will be held on Friday, November 30, 2007, from 1 p.m. to 5 p.m. (Eastern Time).

FOR FURTHER INFORMATION CONTACT: Any member of the public who wishes to obtain the teleconference call-in number and access code; submit a written or brief oral statement (three minutes or less); or receive further information concerning this teleconference meeting, must contact Mr. Fred Butterfield, Designated Federal Officer (DFO). Mr. Butterfield may be contacted at the EPA Science Advisory Board (1400F), U.S. Environmental Protection Agency, 1200 Pennsylvania Avenue, NW., Washington, DC 20460; or via telephone/voice mail: (202) 343-9994; fax: (202) 233-0643; or e-mail at: butterfield.fred@epa.gov. General information concerning the CASAC or the EPA SAB can be found on the EPA Web Site at: http://www.epa.gov/sab.

SUPPLEMENTARY INFORMATION: Background: The CASAC, which is comprised of seven members appointed by the EPA Administrator, was established under section 109(d)(2) of the Clean Air Act (CAA or Act) (42 U.S.C. 7409) as an independent scientific advisory committee. The CASAC provides advice, information and recommendations on the scientific and technical aspects of issues related to air quality criteria and NAAQS under sections 108 and 109 of the Act. The CASAC is chartered under the Federal Advisory Committee Act (FACA), as amended, 5 U.S.C., App. The CASAC Review Panel consists of the seven members of the chartered CASAC supplemented by subject-matter-experts. The CASAC Panel provides advice and recommendations to EPA concerning particulate matter in ambient air relevant to the Agency's review of the primary (human health-based) and secondary (welfare-based) PM NAAQS. The Panel complies with the provisions of FACA and all appropriate SAB Staff Office procedural policies.

Section 109(d)(1) of the CAA requires that the Agency periodically review and revise, as appropriate, the air quality criteria and the NAAQS for the six “criteria” air pollutants, including airborne PM. EPA's National Center for Environmental Assessment in Research Triangle Park, NC (NCEA-RTP), a component of the Agency's Office of Research and Development (ORD), and the Agency's Office of Air Quality Planning and Standards (OAQPS), within the Office of Air and Radiation (OAR), have jointly developed the Draft Integrated Plan for Review of the PM NAAQS, as the first step in EPA's five-year, statutorily-mandated review cycle of airborne particulate matter. As stated in the draft integrated review plan, the purpose of this document is to communicate the plan for reviewing the air quality criteria for PM associated with human health and welfare effects and the primary and secondary standards for PM.

On March 8, 2007, the SAB Staff Office announced the formation of the CASAC PM Review Panel in the Federal Register (72 FR 10527) and sought public nominations for nationally-recognized experts in various scientific and technical disciplines to supplement the expertise of the statutory CASAC. The SAB Staff Director announced the establishment of this CASAC Panel on October 23, 2007. The purpose of this public teleconference meeting, which is the first meeting of the new CASAC PM Review Panel, is to conduct a consultation on the Agency's draft integrated plans for the review of the NAAQS for particulate matter. The SAB Staff Office has developed the consultation as a mechanism to provide early input and advice to EPA on technical issues that should be considered in the development of regulations, guidelines, or technical guidance before the Agency has taken a position.

Availability of Meeting Materials: The Draft Integrated Plan for Review of the PM NAAQS is posted on the Agency's Technology Transfer Network (TTN) Web site at: http://www.epa.gov/ttn/naaqs/standards/pm/s_pm_cr_pd.html, in the “Documents from Current Review” section under “Planning Documents” on this Web page. A copy of the draft agenda and other materials for this CASAC teleconference will be posted on the SAB Web site at: http://www.epa.gov/sab/panels/casac_pm_review_panel_2007-.html prior to the meeting.

Procedures for Providing Public Input: Interested members of the public may submit relevant written or oral information for the CASAC PM Review Panel to consider during the advisory process. Oral Statements: In general, individuals or groups requesting an oral presentation at a public teleconference will be limited to three minutes per speaker, with no more than a total of 30 minutes for all speakers. Interested parties should contact Mr. Butterfield, DFO, in writing (preferably via e-mail), by November 26, 2007, at the contact information noted above, to be placed on the list of public speakers for this meeting. Written Statements: Written statements should be received in the SAB Staff Office by November 26, 2007, so that the information may be made available to the CASAC Panel for its consideration prior to this teleconference. Written statements should be supplied to the DFO in the following formats: one hard copy with original signature (optional), and one electronic copy via e-mail (acceptable file format: Adobe Acrobat PDF, MS Word, WordPerfect, MS PowerPoint, or Rich Text files in IBM-PC/Windows 98/2000/XP format).

Accessibility: For information on access or services for individuals with disabilities, please contact Mr. Butterfield at the phone number or e-mail address noted above, preferably at least ten days prior to the meeting, to give EPA as much time as possible to process your request.

Dated: November 2, 2007.
Anthony F. Maciorowski,
Deputy Director, EPA Science Advisory Board Staff Office.

[FR Doc. E7-21933 Filed 11-7-07; 8:45 am]

BILLING CODE 6560-50-P